DEPARTMENT OF HEALTH AND HUMAN SERVICES

Indian Health Service

Statutorily Mandated Single Source Award Program Name: National Indian Health Board

AGENCY: Indian Health Service, HHS.

ACTION: Notice of Intent to provide supplemental funding to the existing cooperative agreement with the National Indian Health Board (NIHB), Inc.

Project Period: Dates: June 15-December 31, 2010.

Amount of Award: Funding amounts for each project, per Agency are delineated below. All project funding is subject to available funds; hence all supplemental projects outlined in this notice may not be awarded if the Agency does not identify funding for each activity.

Indian Health Service (IHS) Funding

(1) Budget Formulation not to exceed $65,000.

(2) Methamphetamine Abuse and Suicide Prevention Initiative (MSPI) not to exceed $50,000.

(3) IHS Medicaid, Medicare Policy Committee (MMPC) not to exceed $100,000.

Centers for Medicare and Medicaid Services (CMS) Funding

(1) Study and improve the administration and effectiveness of the Medicare, Medicaid and Children's Health Insurance Program (CHIP) in Indian County not to exceed $450,000.

(2) Data Analysis, Consultation and Training not to exceed $250,000.

(3) American Recovery and Reinvestment Act (ARRA) Health Information Technology (HIT) not to exceed $100,000.

Authority: This program is authorized under Public Health Service Act, Section 301(a). This program is described in the Catalog of Federal Domestic Assistance 93.933.

Application Deadline: June 4, 2010.

Anticipated Award Date: June 15, 2010.

Summary: The IHS announces the award of supplemental projects under the existing single source cooperative agreement award to the NIHB, Inc. The Office of Direct Service and Contracting Tribes (ODSCT) has designated supplemental funds for the single source award to the NIHB to further health program objectives in the American Indian/Alaska Natives (AI/AN) community with outreach and education efforts in the interest of improving Indian health care. The NIHB is the only national Indian organization with expertise on the variety of issues related to the provision of health care to the Indian population.

Single Source Justification: The NIHB is governed by twelve elected Tribal Government Officials who represent each of the twelve IHS Areas and the HHS regions where federally recognized Tribes exist. The NIHB represents all 564 federally recognized Tribes: including Tribal Governments operating their own health care delivery systems through self-determination agreements with the IHS and Tribes that continue to receive health care directly from the IHS. The NIHB is the only national Indian organization with an expertise in health policy and health programs, and the only national organization with the designated authority to represent all AI/AN Tribes and villages. The NIHB has a national constituency and clearly supports critical services and activities within the IHS mission of quality health care for AI/AN people. The NIHB can provide advice, consultation and health care advocacy to IHS and HHS based on Tribal input through a broad based consumer network.

The NIHB offers a national network of professional services to provide policy analysis and development, program assessment and development and regional and national meeting coordination. NIHB also provides planning and technical assistance to Tribes, Area Health Boards, other Tribal organizations, the IHS and HHS, other agencies within the Federal Government, private grant-making foundations, and other organizations.

Past performance of NIHB under a cooperative agreement has been exceptional. The NIHB has consistently provided education and outreach to Tribal leadership regarding the potential impact of Health Care Reform legislation. Educational materials were developed for dissemination to the White House, HHS, Tribal Governments and other organizations regarding the priorities and concerns of Tribes as related to health care/insurance reform efforts, IHCIA passage and other health delivery priorities. Their Web site has become a primary source of information to Tribal leaders on healthcare policy issues and is often quoted by national healthcare policy experts. Their outreach and education efforts focused to assist with increased enrollment of AI/AN beneficiaries in Medicaid and Medicare programs and their annual Consumer Conference is a showplace for innovative Tribal practices in healthcare administration. Their ability to bring together Tribes and Federal agencies in an effort to explore new avenues of cooperation and problem solving is an invaluable resource to everyone involved. They were instrumental in supporting program initiatives associated with diabetes, suicide prevention, children's health insurance and H1N1 prevention activities and will remain a solid supporter of improved healthcare in Indian Country. Hence, this all demonstrates the capability and substantiates the need for a non-competitive single source award to be approved and continuity sustained. Supplemental funds have been added to the cooperative agreement and are non-recurring for purposes that are related to the goals of the NIHB and support the scope of work of the cooperative agreement. The nature of the program and this agreement should allow other HHS operating divisions to supplement the NIHB agreement when those funds support the original intent of the original agreement.

This non-competitive single source cooperative agreement will assist the agency in furthering our health program objectives in the AI/AN community; failure to approve the agreement will: Impede consultation with AI/AN Tribal Governments; impede further education of health policy and legislation; would substantially increase the cost of securing these services should the IHS be required to secure these services through a multitude of Area and regional Health Boards; and impede targeting of future resources to AI/AN communities by IHS and HHS.

Use of Cooperative Agreement: A cooperative agreement has been awarded because of anticipated substantial programmatic involvement by IHS staff in the project. Substantial programmatic involvement is as follows:

The NIHB is responsible for the following:

1. To provide technical advice in the area of health care policy analysis and program development on which IHS needs to take action;

2. To provide consultation that is representative of all Tribal Governments in the area of health care policy analysis and program development;

3. To assure that health care advocacy is based on Tribal input through a broad-based consumer network involving the Area Indian Health Boards or Health Board Representatives from each of the twelve IHS areas;

4. To provide an opportunity for Tribal Government officials to share their concerns, challenges, and recommendations for improving health care delivery through the IHS in forums designed to provide training, technical assistance, and appropriate policy discussions;

5. To provide periodic dissemination of health care information, including publication of a newsletter; and

6. To comply with any required reporting requirements that are applicable to American Recovery and Reinvestment Act funding, if awarded.

Programmatic involvement of the IHS staff:

1. IHS staff will review articles concerning the Agency for accuracy and may, as requested by the NIHB, provide relevant articles.

2. IHS staff will have input over the hiring of key personnel as defined by regulation or provision in the cooperative agreement.

3. IHS will provide technical assistance to the NIHB as requested and attend and participate in all the NIHB meetings.

4. IHS staff may, at the request of the NIHB, participate on study groups and may recommend topics for analysis and discussion.

Description of the Project:

(1) IHS Budget Formulation—The NIHB will assist Tribal leaders and Area Indian Health Boards in convening work groups for the purpose of consolidating all twelve regional budget recommendations and health priorities. NIHB will provide assistance during the National Tribal Budget work session; will provide packaging and distribution of National Tribal budget priorities to all Tribes; and will provide support for the evaluation of the 2012 budget process and planning for the 2013 budget process.

(2) IHS MSPI—The NIHB will provide technical assistance around methamphetamine and suicide prevention issues in AI/AN communities. Specifically, NIHB will use funds to: (a) Serve as technical experts in national AI/AN methamphetamine and suicide prevention issues; (b) assess and report on the status of methamphetamine and suicide prevention activities in Tribal communities; and (c) create and/or provide outreach, communication and educational materials and/or activities on this topic.

(3) IHS MMPC—The NIHB will provide logistical and administrative support to the IHS MMPC. This includes convening the Committee for conference calls and meetings; generating reports from such activities, and disseminating information to Tribes and Tribal organizations.

(4) CMS—Study and improve the administration and effectiveness of the Medicare, Medicaid and CHIP in Indian County. The NIHB will conduct analyses, research and studies to address the potential and actual impact of CMS programs on AI/AN beneficiaries and the health care system serving these beneficiaries.

(5) CMS—Data analysis, consultation and dissemination of information to Tribes and Tribal organizations. The NIHB will complete further analysis of State consultation practices focusing on ARRA Section 5006 implementation practices; conduct additional State level trainings with State and Tribal staff on consultation practices employing coordination through local Health Boards; and conduct focused data analyses on topics including across State border access issues and enrollment changes associated with Children's Health Insurance Program Reauthorization Act (CHIPRA) and ARRA legislation.

(6) CMS—American Recovery and Reinvestment Act (ARRA) Health Information Technology (HIT). The NIHB will investigate what data management systems Tribes and Tribal organizations (T/TOs) use for their HIT services and identify which T/TOs are not using the IHS Resource and Patient Management System (RPMS). The NIHB will provide information and training on “meaningful use” of electronic health records and a report to CMS projecting “meaningful use” of electronic health records among T/TOs not on the IHS RPMS system.

Continuation awards are subject to the availability of funds and satisfactory performance.

To obtain application instructions please click on the following link and go to the funding opportunities http://www.ihs.gov/NonMedicalPrograms/gogp/index.cfm?module=gogp_funding.

Once you enter the Funding Opportunity section of the Grants Policy Website, click on the NIHB-2010-Supplemental Awards to access the instructions. Hard copy applications will be accepted from the applicant. Grants.gov submissions are not required under this notification.

Review Criteria:

A. Project Objective(s), Work Plan and Consultants (40 Points)

(1) Identify the proposed project objective(s) addressing the following: Measurable and (if applicable) quantifiable, results oriented, time-limited.

(2) Address how the proposed project will result in change or improvement in program operations or processes for each proposed project objective. Also address what tangible products, if any, are expected from the project, (i.e. legislative analysis, policy analysis, Annual Conference, Summits, etc.)

(3) Submit a work plan in the appendix which includes the following information:

• Provide the action steps on a timeline for accomplishing the proposed project objective(s).

• Identify who will perform the action steps.

• Identify who will supervise the action steps taken.

• Identify what tangible products will be produced during and the end of the proposed project objective(s).

• Identify who will accept and/or approve work products during the duration of the proposed project and at the end of the proposed project.

• Include any training that will take place during the proposed project and who will be attending the training.

• Include evaluation activities planned.

(4) If consultants or contractors will be used during the proposed project, please include the following information in their scope of work (or note if consultants/contractors will not be used):

• Educational requirements.

• Desired qualifications and work experience.

• Expected work products to be delivered on a timeline.

• If a potential consultant/contractor has already been identified, please include a resume in the Appendix.

(5) Describe what updates will be required for the continued success of the proposed project. Include when these updates are anticipated and where funds will come from to conduct the update and/or maintenance.

B. Organizational Capabilities and Qualifications (30 Points)

(1) Describe the organizational structure of the organization beyond health care activities, if applicable.

(2) Describe the ability of the organization to manage the proposed project. Include information regarding similarly sized projects in scope and financial assistance as well as other cooperative agreement/grants and projects successfully completed.

(3) Describe what equipment (i.e., fax machine, phone, computer, etc.) and facility space (i.e., office space) will be available for use during the proposed project. Include information about any equipment not currently available that will be purchased through the cooperative agreement/grant.

(4) List key personnel who will work on the project. Include title used in the work-plan. In the appendix, include position descriptions and resumes for all key personnel. Position descriptions should clearly describe each position and duties, indicating desired qualifications and experience requirements related to the proposed project. Resumes must indicate that the proposed staff member is qualified to carry out the proposed project activities. If a position is to be filled, indicate that information on the proposed position description.

(5) Address the extent to which the proposed project will build the organization's capacity to provide, improve, or expand services that address the need(s) of the target population.

C. Categorical Budget and Budget Justification (15 Points)

(1) Provide a categorical budget for each supplement based on the project period identified.

(2) If indirect costs are claimed, indicate and apply the current negotiated rate to the budget. Include a copy of the rate agreement in the appendix.

(3) Provide a narrative justification explaining why each line item is necessary/relevant to the proposed project. Include sufficient cost and other details to facilitate the determination of cost allowability (i.e., equipment specifications, etc.).

D. Project Evaluation (15 Points)

Each proposed objective requires an evaluation component to assess its progression and ensure its completion. Also, include the evaluation activities in the work-plan. Describe the proposed plan to evaluate both outcomes and process. Outcome evaluation relates to the results identified in the objectives, and process evaluation relates to the work-plan and activities of the project.

(1) For outcome evaluation, describe:

• What the criteria will be for determining success of each objective.

• What data will be collected to determine whether the objective was met.

• At what intervals will data be collected.

• Who will collect the data and their qualifications.

• How the data will be analyzed.

• How the results will be used.

(2) For process evaluation, describe:

• How the project will be monitored and assessed for potential problems and needed quality improvements.

• Who will be responsible for monitoring and managing project improvements based on results of ongoing process improvements and their qualifications.

• How ongoing monitoring will be used to improve the project.

• Any products, such as manuals or policies, that might be developed and how they might lend themselves to replication by others.

• How the project will document what is learned throughout the project period.

(3) Describe any evaluation efforts that are planned to occur after the grant period ends.

(4) Describe the ultimate benefit for the AI/AN that will be derived from this project.

Agency Contact(s):

For program-related information, contact Ronald Demaray, Acting Director, IHS Office of Direct Service and Contracting Tribes, phone number 301-443-1104 or by e-mail at ronald.demaray@ihs.gov.

For grants-related information, contact Kimberly M. Pendleton, Grants Management Officer, Division of Grants Operations, 301-443-5204 or by e-mail at kimberly.pendleton@ihs.gov.

Dated: May 26, 2010.
Randy Grinnell,
Deputy Director, Indian Health Service.

[FR Doc. 2010-13148 Filed 6-1-10; 8:45 am]

BILLING CODE 4165-16-P